POSTAL SERVICE

Change in Rates and Classes of General Applicability for Competitive Products

AGENCY: Postal Service.

ACTION: Notice of a change in rates of general applicability for competitive products.

SUMMARY: This notice sets forth changes in rates of general applicability for competitive products.

DATES: Effective date: April 26, 2015.

FOR FURTHER INFORMATION CONTACT: Daniel J. Foucheaux, Jr., 202-268-2989.

SUPPLEMENTARY INFORMATION: On January 26, 2015, pursuant to their authority under 39 U.S.C. 3632, the Governors of the Postal Service established prices and classification changes for competitive products. The Governors' Decision and the record of proceedings in connection with such decision are reprinted below in accordance with section 3632(b)(2).

Stanley F. Mires,
Attorney, Federal Requirements.

Decision of the Governors of the United States Postal Service on Changes in Rates and Classes of General Applicability for Competitive Products (Governors' Decision No. 14-05)

December 05, 2014

Statement of Explanation and Justification

Pursuant to our authority under section 3632 of title 39, as amended by the Postal Accountability and Enhancement Act of 2006 (“PAEA”), we establish new prices of general applicability for the Postal Service's shipping services (competitive products), and such changes in classifications as are necessary to define the new prices. The changes are described generally below, with a detailed description of the changes in the attachment. The attachment includes the draft Mail Classification Schedule sections with classification changes in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3015.7(c), requires competitive products to contribute a minimum of 5.5 percent to the Postal Service's institutional costs. Accordingly, no issue of subsidization of competitive products by market dominant products should arise (39 U.S.C. 3633(a)(1)). We therefore find that the new prices and classification changes are in accordance with 39 U.S.C. 3632-3633 and 39 CFR 3015.2.

I. Domestic Products

A. Priority Mail Express

The existing structure of Priority Mail Express Retail, Commercial Base, and Commercial Plus price categories is maintained. No price changes are proposed, but some minor classification changes are made.

B. Priority Mail

The existing structure of Priority Mail Retail, Commercial Base, and Commercial Plus price categories is maintained. No price changes are proposed, but some minor classification changes are made.

C. Parcel Select

On average, prices for non-Lightweight Parcel Select, the Postal Service's bulk ground shipping product, will increase 8.0 percent. For destination entered parcels, the average price increase is 7.3 percent. For non-destination entered parcels, the average price increase is 8.7 percent. Prices for Parcel Select Lightweight, formerly Standard Mail commercial parcels, will increase by 9.8 percent.

D. Parcel Return Service

Parcel Return Service prices will have an overall price increase of 4.8 percent. Prices for parcels retrieved at a return Network Distribution Center (RNDC) will increase by 5.7 percent, and prices for parcels retrieved at a return Sectional Center Facility (RSCF) will increase by 5.0 percent. Prices for parcels picked up at a return delivery unit (RDU) will increase 4.7 percent. Parcel Return Service-Full Network is being eliminated because of insufficient volumes, and to simplify product offerings.

E. First-Class Package Service

First-Class Package Service continues to be positioned as a lightweight (less than one pound) offering used by businesses for fulfillment purposes. Overall, First-Class Package Service prices will increase 5.1 percent, with no structural changes. Price and classification changes are being made to the First-Class Package Service product, in the event that a pending transfer request of First-Class Mail Retail parcels to the competitive product list is approved by the Postal Regulatory Commission (“Commission”). Prices for First-Class Mail Retail parcels will be increased 22 percent if the transfer is approved. If the Commission does not approve the transfer, those changes shall be removed.

F. Standard Post

Standard Post prices will increase 11.4 percent for 2015. Prices in Zones 1-4 will continue to align with the retail Priority Mail prices for those zones. Therefore, customers shipping in those price cells will receive Priority Mail service, and will only default to Standard Post if the item contains hazardous material or is otherwise not permitted to travel by air transportation.

G. Round-Trip Mailer

If the Commission authorizes the addition of the Round-Trip Mailer to the competitive product list, price and classification language reflecting that addition shall be reflected in the Mail Classification Schedule. Prices for the Round-Trip Mailer will be increased approximately 2.3 percent if the transfer is approved.

H. Domestic Extra Services

Premium Forwarding Service prices will increase slightly in 2015. The retail counter enrollment fee will increase to $18.00. The online enrollment option, introduced in 2014, will now be available for $16.50. The weekly reshipment fee will increase to $18.00. Prices for Adult Signature service will increase to $5.50 for the basic service and $5.75 for the person-specific service. Address Enhancement Service prices will be increasing between zero and 4.7 percent depending on the particular rate element, to ensure adequate cost coverage. Competitive Post Office Box prices will be increasing 3.5 percent on average, which is within the existing price ranges. Package Intercept Service will increase 5.7 percent, to $12.15. The Pickup on demand fee will remain unchanged for 2015.

II. International Products

A. Expedited Services

International expedited services include Global Express Guaranteed (GXG) and Priority Mail Express International (PMEI). Overall, GXG prices will rise by 7.2 percent, and PMEI will be subject to an overall 6.7 percent increase. The existing structure of GXG Retail, Commercial Base, and Commercial Plus price categories will be maintained.

B. Priority Mail International

The overall increase for Priority Mail International (PMI) will be 5.5 percent. The existing structure of PMI Flat Rate, Retail, Commercial Base, and Commercial Plus price categories will be maintained, except for the establishment of new zoned prices based on origin ZIP Code for PMI destined to Canada. In addition, the maximum weight for PMI for Rate Group 17 (Netherlands) will increase to 66 lbs.

C. International Priority Airmail and International Surface Air Lift

Published prices for International Priority Airmail (IPA) and International Surface Air Lift (ISAL) will increase by 4.5 percent.

D. Airmail M-Bags

The published prices for Airmail M-Bags will increase by 6.8 percent.

E. First-Class Package International Service™

The overall increase for First-Class Package International Service (FCPIS) prices will be 7.2 percent. The existing structure of FCPIS Retail, Commercial Base, and Commercial Plus price categories will be maintained.

F. International Ancillary Services and Special Services

Prices for several international ancillary services will be increased. As a housekeeping matter, provisions concerning Inbound International Return Receipt and Inbound International Insurance will be removed from the Mail Classification Schedule. Certificates of Mailing will increase 2.5 percent. Registered Mail will increase 2.2 percent. International Return Receipt will increase 2.7 percent. The insurance tables for PMEI and PMI will be combined to simplify pricing.

In addition, along with minor formatting and wording changes, International Business Return Service (IBRS) Competitive Contract product will be renumbered.

G. Promotions

The Postal Service may offer one or more promotions in the form of a discount or rebate on certain international products, during an established promotional program period, to mailers that comply with the eligibility requirements of the promotional program. Details of each such program shall be filed in separate filings with the Postal Regulatory Commission.

Order

The changes in prices and classes set forth herein shall be effective at 12:01 a.m. on April 26, 2015. We direct the Secretary to have this decision published in the Federal Register in accordance with 39 U.S.C. 3632(b)(2). We also direct management to file with the Postal Regulatory Commission appropriate notice of these changes.

By The Governors.

Mickey D. Barnett,

Chairman.

BILLING CODE 7710-P

[FR Doc. 2015-01850 Filed 2-3-15; 8:45 am]

BILLING CODE 7710-C